DEPARTMENT OF HEALTH AND HUMAN SERVICES

Announcement of Meeting of the National Clinical Care Commission

AGENCY: Office of Disease Prevention and Health Promotion, Office of the Assistant Secretary for Health, Office of the Secretary, Department of Health and Human Services.

ACTION: Notice.

SUMMARY: The National Clinical Care Commission (the Commission) will conduct its third meeting on June 27, 2019. The Commission will evaluate and make recommendations to the U.S. Department of Health and Human Services (HHS) Secretary and Congress regarding improvements to the coordination and leveraging of federal programs related to awareness and clinical care for complex metabolic or autoimmune diseases that result from issues related to insulin that represent a significant disease burden in the United States, which may include complications due to such diseases.

DATES: The meeting will take place on June 27, 2019 from 8:00 a.m. to approximately 5:00 p.m. Eastern Time (ET).

ADDRESSES: National Institutes of Health, Building 35, John Edward Porter Neuroscience Research Center [PNRC II], 35 Convent Drive, Bethesda, MD 20892. The meeting will also be held online via webcast. To register to attend the meeting, please visit the registration website at https://events.kauffmaninc.com/events/nccc3/index.cfm.

FOR FURTHER INFORMATION CONTACT: Clydette Powell, Designated Federal Officer, National Clinical Care Commission, U.S. Department of Health and Human Services, Office of the Assistant Secretary for Health, Office of Disease Prevention and Health Promotion, 1101 Wootton Parkway, Suite LL-100, Rockville, MD 20852. Email: OHQ@hhs.gov. Additional information may be obtained at https://health.gov/hcq/national-clinical-care-commission.asp.

SUPPLEMENTARY INFORMATION: The National Clinical Care Commission Act (Pub. L. 115-80) requires the HHS Secretary to establish the National Clinical Care Commission. The Commission will consist of representatives of specific federal agencies and non-federal individuals and entities who represent diverse disciplines and views. The Commission will evaluate and make recommendations to the HHS Secretary and Congress regarding improvements to the coordination and leveraging of federal programs related to awareness and clinical care for complex metabolic or autoimmune diseases that result from issues related to insulin that represent a significant disease burden in the United States, which may include complications due to such diseases.

This third meeting of the Commission will consist of presentations by its four subcommittees on their work to support the call for information about federal diabetes programs. The Commission members will discuss the work of the subcommittees and overall plan to collect information relevant to its charge. The names and biographies of the Commission members and final meeting agenda will be available prior to the meeting at https://health.gov/hcq/national-clinical-care-commission.asp.

Public Participation at Meeting: The Commission invites public comment on issues related to the Commission's charge either in-person at the meeting or in writing. In-person attendees who plan to provide oral comments at the Commission meeting during a designated time must submit their comments to OHQ@hhs.gov on or before June 12, 2019 and must check-in on-site. To accommodate as many individuals as possible, the time for each comment will be limited to three minutes. If more requests are received than can be accommodated, speakers will be randomly selected. The nature of the comments will not be considered in making this selection. Written comments are welcome throughout the entire development process of the Commission and may be emailed to OHQ@hhs.gov, or by mail to the following address: Public Commentary, National Clinical Care Commission, 1101 Wootton Parkway, Suite LL-100, Rockville, MD 20852. Written comments should not exceed three pages in length.

To attend the Commission meeting, individuals must pre-register at the registration website at https://events.kauffmaninc.com/events/nccc3/index.cfm. In-person and live webcast attendance options are available. In-person attendance at the meeting is limited to space available. In-person registrations will be accepted until maximum capacity is reached and must be completed by June 20, 2019. On the day of the meeting, seating will be provided first to persons who have pre-registered. Those who have not pre-registered will be accommodated on a first come, first served basis if additional seats are still available 10 minutes before the meeting starts. Individuals who need special assistance, such as sign language interpretation or other reasonable accommodations, should indicate the special accommodation when registering online or by notifying Jennifer Gillissen at jennifer.gillissen@kauffmaninc.com by June 20, 2019.

Authority: The National Clinical Care Commission is required under the National Clinical Care Commission Act (Pub. L. 115-80). The Commission is governed by provisions of the Federal Advisory Committee Act (FACA), Public Law 92-463, as amended (5 U.S.C., App.) which sets forth standards for the formation and use of federal advisory committees.

Dated: May 2, 2019.
Donald Wright,
Deputy Assistant Secretary for Health.

[FR Doc. 2019-09920 Filed 5-13-19; 8:45 am]

BILLING CODE 4150-32-P